DEPARTMENT OF TRANSPORTATION

Office of the Secretary

Aviation Proceedings, Agreements Filed the Week Ending October 14, 2005

The following Agreements were filed with the Department of Transportation under sections 412 and 414 of the Federal Aviation Act, as amended (49 U.S.C. 1382 and 1384) and procedures governing proceedings to enforce these provisions. Answers may be filed within 21 days after the filing of the application.

Docket Number: OST-2005-22713.

Date Filed: October 13, 2005.

Parties: Members of the International Air Transport Association.

Subject: Mail Vote 464—Resolution 010x. TC3 Japan-Korea-South East Asia. Special Passenger Amending Resolution between Japan and China (excluding Hong Kong SAR and Macao SAR).

Intended effective date: 19 October 2005.

Docket Number: OST-2005-22714.

Date Filed: October 13, 2005.

Parties: Members of the International Air Transport Association.

Subject: TC23/TC123 Middle East-TC3-Reso 017c. Geneva & Teleconference, 12-14 September 2005 (Memo 0243). TC23/TC123 Middle East-South Asian Subcontinent. Reso 002b. Geneva & Teleconference, 12-14 September 2005 (Memo 244). TC23/TC123 Middle East-South West Pacific-Reso 002ar. Geneva & Teleconference, 12-14 September 2005 (Memo 0245). TC23/TC123 Middle East-Japan, Korea Reso 002be. Special Amending Resolution between Middle East and Japan Korea. Geneva & Teleconference, 12-14 September 2005 (Memo 0246).

Intended effective date: 15 January 2006.

Docket Number: OST-2005-22718.

Date Filed: October 13, 2005.

Parties: Members of the International Air Transport Association.

Subject: TC23/123 Passenger Tariff Coordinating Conferences. Geneva and Teleconference, 26-28 September 2005. TC23/123 Europe-South East Asia Expedited. Resolution 002ao.

Intended effective date: 15 November 2005.

Docket Number: OST-2005-22722.

Date Filed: Ocotboer 13, 2005.

Parties: Members of the International Air Transport Association.

Subject: TC23/123 Passenger Tariff Coordinating Conferences. Geneva and Teleconference, 26-28 September 2005. TC23/123 Europe-South East Asia Expedited. Resolution 002bh (Memo 0212).

Intended effective date: 1 December 2005.

Renee V. Wright,
Program Manager, Docket Operations, Federal Register Liaison.

[FR Doc. 05-21827 Filed 11-1-05; 8:45 am]

BILLING CODE 4910-62-P